DEPARTMENT OF DEFENSE

Department of the Army, Corps of Engineers

Notice of Intent To Prepare a Draft Environmental Impact Statement for a Permit Application for the Proposed Gregory Canyon Landfill Project, in San Diego County, CA

AGENCY: U.S. Army Corps of Engineers, Los Angeles District, DoD.

ACTION: Notice of Intent (NOI).

SUMMARY: The U.S. Army Corps of Engineers, Los Angeles District (Corps) is examining the environmental consequences associated with the proposed construction, operation, and closure of a new Class III landfill in northern San Diego County, in connection with Gregory Canyon, Ltd.'s application for a Department of the Army permit under Section 404 of the Clean Water Act to construct the proposed Gregory Canyon Landfill and associated facilities, which would discharge fill materials into approximately 2 acres of waters of the U.S. (less than 1 acre would be affected by permanent discharges of fill) in the San Luis Rey River to construct a bridge and in Gregory Canyon to construct the landfill liner, stability berm, and ancillary facilities.

The primary federal environmental concerns are the proposed discharges of fill material into waters of the U.S. and the potential for significant adverse environmental effects resulting from such in-water activities. Therefore, to address these concerns in accordance with the National Environmental Policy Act (NEPA), the Corps is requiring preparation of an Environmental Impact Statement (EIS) prior to consideration of any permit action. The action must comply with the Section 404(b)(1) Guidelines (40 CFR part 230) and not be contrary to the public interest to be granted a Corps permit. The Corps may ultimately make a determination to permit or deny the above project, or permit or deny modified versions of the above project.

FOR FURTHER INFORMATION CONTACT: Questions about the proposed action or the scoping of the Draft EIS can be answered by Dr. Spencer MacNeil, Corps Senior Project Manager, at (805) 585-2152. Comments regarding scoping of the Draft EIS shall be addressed to: U.S. Army Corps of Engineers, Los Angeles District, Regulatory Division, Ventura Field Office, ATTN: CESPL-RG-N-2010-00354-SDM, 2151 Alessandro Drive, Suite 110, Ventura, California 93001, or spencer.d.macneil@usace.army.mil. Comment letters sent via electronic mail shall include the commenter's physical mailing address and the project title “Gregory Canyon Landfill Project” shall be included in the electronic mail's subject line.

SUPPLEMENTARY INFORMATION: 1. Project Site and Background Information: The proposed project is located in northern San Diego County on State Route 76 (SR 76), about three miles east of Interstate 15. The project site encompasses approximately 1,770 acres. There are three large, regional easements that cross the property: SR 76, a San Diego Gas & Electric (SDG&E) transmission corridor, and San Diego Pipelines Nos. 1 and 2 (First San Diego Aqueduct). In addition, the San Luis Rey River traverses the site in an east-west direction. A portion of Gregory Mountain is located on the project site; this mountain is considered culturally sacred by some Native Americans. The Gregory Canyon Landfill Project (proposed project) consists of the construction, operation, and closure of the proposed Gregory Canyon Landfill. The proposed landfill and its associated facilities would be located on the south side of SR 76 and would occupy approximately 308 acres of the site. The majority of the remaining property (a minimum of 1,313 acres) would be dedicated as permanent open space for long-term preservation of sensitive habitat and species.

The property is located adjacent to residential, agricultural, and Native American properties. A portion of the site was previously occupied by two dairies, which have ceased operation.

An Environmental Impact Report (EIR) was prepared for the project and was certified in 2003 and 2007 by the Director of the San Diego County Department of Environmental Health (DEH). Subsequently, in response to a court order for additional information regarding the identified water supply, an Addendum to the certified 2007 EIR was prepared. The 2008 Addendum was adopted by the Director of San Diego County DEH. The Court ruled that the Addendum was the appropriate document and that the issue was adequately addressed. A second Addendum was prepared to analyze a change in the provision of water for the project. This Addendum was adopted by the Director of the San Diego County DEH in January 2010.

2. Proposed Action: Gregory Canyon, Ltd., as project applicant, proposes to construct, operate, and close a Class III landfill on the project site. The construction activities would discharge fill materials into approximately 2 acres of waters of the U.S. (less than 1 acre would be affected by permanent discharges of fill) associated with constructing a bridge over the San Luis Rey River and with constructing the landfill liner, stability berm, and ancillary facilities in Gregory Canyon. The proposed landfill project would have a maximum daily intake of 5,000 tons and an annual intake of one million tons. The landfill would accept solid waste disposal for approximately 30 years. The landfill components would occupy approximately 308 acres of an approximately 1,770-acre site. All of the construction associated with the landfill would be located to the south of SR 76.

The landfill footprint, which would be constructed and filled in phases, would be approximately 197 acres (including relocated SDG&E transmission towers, see below) and would be located within Gregory Canyon. The landfill prism would consist of a double composite liner as well as a leachate collection and removal system with a protective cover. At times, periodic construction to open the next landfill cell would occur simultaneously with acceptance of solid waste.

Two borrow/stockpile areas, which would be used to store or excavate material for daily operation of the landfill, would be provided to the west of the landfill footprint. Borrow/Stockpile Area A, which would be about 22 acres in size, would be located adjacent to the western property boundary. A haul road would connect Borrow/Stockpile Area A with the landfill footprint. The haul road would be 20 feet wide and would run along the base of the adjacent hillside with turn-out locations for heavy equipment. Borrow/Stockpile Area B, which would be about 65 acres in size, would be located immediately to the west of the southern portion of the landfill footprint.

The proposed project includes the construction of an access road and bridge that would cross the San Luis Rey River, which runs through the property. The approximately 35.5 foot wide bridge would be approximately 640 feet in length, with five sets of piles. The proposed project includes modifications to SR 76 at the entrance. The modifications would widen the roadway to 52 to 64 feet to provide for an eastbound deceleration lane and a westbound left turn lane and would realign approximately 1,700 linear feet of roadway to the south of the existing alignment. The modifications are expected to improve sight distance and facilitate truck movements at the access road on SR76.

The access road would lead to the ancillary facilities area just north of the landfill footprint. The ancillary facilities area would include booth and fee scale, an administration building, maintenance building, and a recyclable drop-off area. Two 10,000-gallon leachate- holding tanks, a 20,000-gallon water storage tank, a 20,000-gallon recycled water tank, and a 50 gallon per minute reverse osmosis system would be located in the ancillary facilities area.

In addition, the proposed project would include the relocation of SDG&E transmission towers located on the slope of Gregory Mountain and an option to relocate approximately 3,200 linear feet of San Diego County Water Authority Pipelines 1 and 2, which traverse the property. The proposed project would include the dedication of a minimum of 1,313 acres of the site as permanent open space for long-term preservation of sensitive habitat and species.

Through the EIS process, feasible environmental mitigation measures will be developed to reduce potential environmental impacts. Measures to reduce construction impacts would be implemented through construction contract specifications and permit requirements.

3. Issues: There are several potential environmental issues that will be addressed in the Draft EIS. Additional issues may be identified during the scoping process. Issues initially identified for evaluation in the Draft EIS as potentially significant include:

1. Visual impacts from the landform alterations;

2. air quality impacts from construction, operation, increased vehicle emissions;

3. biological impacts to habitat and wildlife;

4. cultural resources (ethnographic resources);

5. hydrogeology, surface hydrology and water quality from disturbance of sediment, operations, and runoff from development;

6. noise from increased traffic associated with operations;

7. traffic and transportation; and

8. cumulative impacts from past, present, and reasonably foreseeable future projects.

4. Alternatives: Several alternatives are being considered for the proposed action. The Draft EIS will include a co-equal analysis of the No Action and project alternatives considered. Alternatives were considered through the state environmental review process and an associated EIR that included a no project alternative; two on-site landfill scenarios; an on-site prescriptive design alternative with a single liner; two off-site North San Diego County locations; and alternatives to reduce the need for a landfill. The EIS will likely consider some of these alternatives. The EIS will include and evaluate a No Action Alternative that would not implement any of the proposed project elements and would not involve any discharge of dredged or fill material into waters of the U.S., and therefore, would not require a Corps permit. These alternatives will be further formulated and developed during the scoping process. Additional alternatives that may be developed during scoping will also be considered in the Draft EIS.

5. Scoping Process: The Corps will conduct a public scoping meeting for the proposed Gregory Canyon Landfill Project Draft EIS to receive public comment and to assess public concerns regarding the appropriate scope and preparation of the Draft EIS. Participation in the public meeting by federal, state, and local agencies and other interested organizations and persons is encouraged. The meeting will be held on June 3, 2010 beginning at 6:00 PM (PST) at the City of San Marcos Senior Center (Horizon Room), 111 Richmar Avenue, San Marcos, CA 92069. Comments on the proposed action, alternatives, or any additional concerns should be submitted in writing. Written comment letters will be accepted until June 18, 2010.

The Corps also anticipates formally consulting with the U.S. Fish and Wildlife Service under Section 7 of the Endangered Species Act and with the State Historic Preservation Officer under Section 106 of the National Historic Preservation Act.

6. Availability of the Draft EIS: The Draft EIS is expected to be published and circulated by mid-2011, and a public meeting will be held after its publication.

Dated: April 29, 2010.
Mark D. Cohen,
Deputy Chief, Regulatory Division, Corps of Engineers.

[FR Doc. 2010-10679 Filed 5-6-10; 8:45 am]

BILLING CODE 3720-58-P